DEPARTMENT OF COMMERCE

National Institute of Standards and Technology

National Construction Safety Team Advisory Committee Meeting

AGENCY: National Institute of Standards and Technology, Department of Commerce.

ACTION: Notice of open meeting.

SUMMARY: The National Construction Safety Team (NCST) Advisory Committee (Committee) will hold an open meeting via teleconference on Tuesday, November 27, 2018 from 11:00 a.m. to 2:00 p.m. Eastern Time. The primary purpose of this meeting is to finalize the Committee's annual report to Congress. The agenda may change to accommodate Committee business. The final agenda will be posted on the NIST website at https://www.nist.gov/topics/disaster-failure-studies/national-construction-safety-team-ncst/advisory-committee.

DATES: The NCST Advisory Committee will meet on Tuesday, November 27, 2018 from 11:00 a.m. until 2:00 p.m. Eastern Time.

ADDRESSES: The meeting will be held via teleconference. For instructions on how to participate in the meeting, please see the SUPPLEMENTARY INFORMATION section of this notice.

FOR FURTHER INFORMATION CONTACT: Melissa Banner, Administrative Office Assistant, Community Resilience Program, Engineering Laboratory, NIST, 100 Bureau Drive, Mail Stop 8615, Gaithersburg, Maryland 20899-8604. Ms. Banner's email address is Melissa.Banner@nist.gov; and her phone number is (301) 975-8912.

SUPPLEMENTARY INFORMATION: The Committee was established pursuant to Section 11 of the NCST Act (Pub. L. 107-231, codified at 15 U.S.C. 7301 et seq.). The Committee is currently composed of six members, appointed by the Director of NIST, who were selected on the basis of established records of distinguished service in their professional community and their knowledge of issues affecting the National Construction Safety Teams. The Committee advises the Director of NIST on carrying out the NCST Act; reviews the procedures developed for conducting investigations; and reviews the reports issued documenting investigations. Background information on the NCST Act and information on the NCST Advisory Committee is available at https://www.nist.gov/topics/disaster-failure-studies/national-construction-safety-team-ncst/advisory-committee.

Pursuant to the Federal Advisory Committee Act, as amended, 5 U.S.C. App., notice is hereby given that the NCST Advisory Committee will meet on Tuesday, November 27, 2018 from 11:00 a.m. until 2:00 p.m. Eastern Time. The meeting will be open to the public and will be held via teleconference. There will be no central meeting location. Interested members of the public will be able to participate in the meeting from remote locations by calling into a central phone number. The primary purpose of this meeting is to finalize the Committee's annual report due to Congress. The agenda may change to accommodate Committee business. The final agenda will be posted on the NIST website at https://www.nist.gov/topics/disaster-failure-studies/national-construction-safety-team-ncst/advisory-committee-meetings.

Individuals and representatives of organizations who would like to offer comments and suggestions related to items on the Committee's agenda for this meeting are invited to request a place on the agenda. Approximately fifteen minutes will be reserved at the beginning of the meeting for public comments. Speaking times will be assigned on a first-come, first-served basis. The amount of time per speaker will be determined by the number of requests received. Questions from the public will not be considered during this period. All those wishing to speak must submit their request by email to the attention of Melissa Banner Melissa.Banner@nist.gov, by 5:00 p.m. Eastern Time, Friday, November 23, 2018. Speakers who wish to expand upon their oral statements, those who had wished to speak but could not be accommodated on the agenda, and those who were unable to attend are invited to submit written statements to the NCST, National Institute of Standards and Technology, 100 Bureau Drive, MS 8604, Gaithersburg, Maryland 20899-8604, or electronically by email to Benjamin.Davis@nist.gov.

Anyone wishing to participate in this meeting must register by 5:00 p.m. Eastern Time, Friday, November 23, 2018. To register please submit your first and last name, email address, and phone number to Melissa Banner at Melissa.Banner@nist.gov or (301) 975-8912. After registering, participants will be provided with detailed instructions on how to join the meeting remotely.

Kevin A. Kimball,
Chief of Staff.

[FR Doc. 2018-24639 Filed 11-9-18; 8:45 am]

BILLING CODE 3510-13-P